DEPARTMENT OF EDUCATION

RIN 1820 ZA34

National Institute on Disability and Rehabilitation Research

AGENCY: Office of Special Education and Rehabilitative Services, Department of Education.

ACTION: Notice of proposed priorities for Community Integration for Individuals with Disabilities.

SUMMARY: The Assistant Secretary for Special Education and Rehabilitative Services proposes priorities under the National Institute on Disability and Rehabilitation Research (NIDRR) Rehabilitation Research and Training Centers (RRTC) Program. The Assistant Secretary may use one or more of these priorities for competitions in fiscal year (FY) 2004 and later years. We take this action to focus research attention on areas of national need. We intend these priorities to improve community integration outcomes of persons with disabilities who have psychiatric or other mental health conditions.

DATES: We must receive your comments on or before April 27, 2004.

ADDRESSES: Address all comments about these proposed priorities to Donna Nangle, U.S. Department of Education, 400 Maryland Avenue, SW., room 3412, Switzer Building, Washington, DC 20202-2645. If you prefer to send your comments through the Internet, use the following address: donna.nangle@ed.gov.

FOR FURTHER INFORMATION CONTACT: Donna Nangle. Telephone: (202) 205-5880.

If you use a telecommunications device for the deaf (TDD), you may call the TDD number at (202) 205-4475 or via Internet: donna.nangle@ed.gov.

Individuals with disabilities may obtain this document in an alternative format (e.g., Braille, large print, audiotape, or computer diskette) on request to the contact person listed under FOR FURTHER INFORMATION CONTACT.

SUPPLEMENTARY INFORMATION:

Invitation to Comment

We invite you to submit comments regarding these proposed priorities. To ensure that your comments have maximum effect in developing the notice of final priorities, we urge you to identify clearly the specific proposed priority that each comment addresses.

We invite you to assist us in complying with the specific requirements of Executive Order 12866 and its overall requirement of reducing regulatory burden that might result from these proposed priorities. Please let us know of any further opportunities we should take to reduce potential costs or increase potential benefits while preserving the effective and efficient administration of the program.

During and after the comment period, you may inspect all public comments about these proposed priorities in room 3412, Switzer Building, 330 C Street SW., Washington, DC, between the hours of 8:30 a.m. and 4 p.m., eastern time, Monday through Friday of each week except Federal holidays.

Assistance to Individuals With Disabilities in Reviewing the Rulemaking Record

On request, we will supply an appropriate aid, such as a reader or print magnifier, to an individual with a disability who needs assistance to review the comments or other documents in the public rulemaking record for these proposed priorities. If you want to schedule an appointment for this type of aid, please contact the person listed under FOR FURTHER INFORMATION CONTACT.

We will announce the final priorities in a notice in the Federal Register. We will determine the final priorities after considering responses to this notice and other information available to the Department. This notice does not preclude us from proposing or funding additional priorities, subject to meeting applicable rulemaking requirements.

Note: This notice does not solicit applications. In any year in which we choose to use these proposed priorities, we invite applications through a notice published in the Federal Register. When inviting applications, we designate each priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the priority (34 CFR 75.105(c)(2)(i)); or (2) selecting an application that meets the competitive priority over an application of comparable merit that does not meet the competitive priority (34 CFR 75.105(c)(2)(ii)).

Invitational priority: Under an invitational priority, we are particularly interested in applications that meet the invitational priority. However, we do not give an application that meets the invitational priority a competitive or absolute preference over other applications (34 CFR 75.105(c)(1)).

Note: NIDRR supports the goals of President Bush's New Freedom Initiative (NFI). The NFI can be accessed on the Internet at the following site: http://www.whitehouse.gov/news/freedominitiative/freedominitiative.html.

These proposed priorities are in concert with NIDRR's Long-Range Plan (Plan). The Plan is comprehensive and integrates many issues relating to disability and rehabilitation research topics. While applicants will find many sections throughout the Plan that support potential research to be conducted under these proposed priorities, a specific reference is included for each priority presented in this notice. The Plan can be accessed on the Internet at the following site: http://www.ed.gov/rschstat/research/pubs/index.html.

Through the implementation of the NFI and the Plan, NIDRR seeks to- (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Rehabilitation Research and Training Centers

RRTCs conduct coordinated and integrated advanced programs of research targeted toward the production of new knowledge to improve rehabilitation methodology and service delivery systems, alleviate or stabilize disability conditions, or promote maximum social and economic independence for persons with disabilities. Additional information on the RRTC program can be found at http://www.ed.gov/rschstat/research/pubs/res-program.html#RRTC.

General Requirements of Rehabilitation Research and Training Centers

RRTCs must:

• Carry out coordinated advanced programs of rehabilitation research;

• Provide training, including graduate, pre-service, and in-service training, to help rehabilitation personnel more effectively provide rehabilitation services to individuals with disabilities;

• Provide technical assistance to individuals with disabilities, their representatives, providers, and other interested parties;

• Disseminate informational materials to individuals with disabilities, their representatives, providers, and other interested parties; and

• Serve as centers for national excellence in rehabilitation research for individuals with disabilities, their representatives, providers, and other interested parties.

The Department is particularly interested in ensuring that the expenditure of public funds is justified by the execution of intended activities and the advancement of knowledge and, thus, has built this accountability into the selection criteria. Not later than three years after the establishment of any RRTC, NIDRR will conduct one or more reviews of the activities and achievements of the RRTC. In accordance with the provisions of 34 CFR 75.253(a), continued funding depends at all times on satisfactory performance and accomplishment of approved grant objectives.

Priorities

Background

Community integration (CI) and independent living (IL) are central to NIDRR's mission, which is to develop knowledge that will “improve substantially the options for disabled individuals to perform regular activities in the community, and the capacity of society to provide full opportunities for its disabled citizens.” NIDRR's Plan, which articulates this mission, emphasizes that community integration is not just about being located physically in the community; it is about full participation, independence, empowerment, choice, and control.

The U.S. Supreme Court, in its 1999 L.C. v. Olmstead decision, held that title II of the Americans with Disabilities Act (ADA) prohibits unjustified isolation or segregation of qualified individuals with disabilities, including individuals with mental disabilities, through institutionalization. The President issued Executive Order 13217, “Community-based Alternatives for Individuals with Disabilities,” which requires Federal agencies to implement the Olmstead decision.

In April, 2002, President Bush announced the creation of the New Freedom Commission on Mental Health. He charged the Commission with studying the mental health care system in the United States and making recommendations that would enable adults with serious mental illness and children with serious emotional disturbance to live, work, learn, and participate fully in their communities. The ensuing Commission Report, “Achieving the Promise: Transforming Mental Health Care in America” (July, 2003), along with reports from the Surgeon General and numerous other public and private entities, offer consensus on a number of findings addressed in the priorities below. These include the importance of enhancing: (1) Recovery as an organizing framework; (2) recovery-oriented, community-based interventions that are consumer and family-driven; (3) integration of care and collaboration across service sectors serving persons with psychiatric disability (e.g., health, mental health, substance abuse, corrections/juvenile justice, education, social services); (4) financial flexibility, workforce development, and accountability across service sectors; (5) access to care by reducing stigma; and culturally competent care and service to rural and other underserved populations; and (6) culturally competent care and service to rural and other underserved populations.

NIDRR, in keeping with its long-standing commitment to CI for people with disabilities, and consistent with findings from the President's Commission and findings from the field, announces its intention to fund three RRTCs related to child, adolescent, and adult mental health. Each of these priorities addresses at least some of the findings previously discussed.

New to this set of priorities is a focus on outcomes rather than activities. The overall outcome for each of these priorities mirrors the President's charge: To work towards enabling adults with serious mental illness and children with serious emotional disturbance to live, work, learn, and participate fully in their communities and to provide supports for their families and caregivers.

Proposed Priorities

The Assistant Secretary for Special Education and Rehabilitative Services proposes to fund three RRTCs that will focus on rehabilitation related to improving the community integration outcomes of persons with disabilities who have psychiatric or other mental health conditions. Under each of these priorities, the RRTC must:

(1) Contribute substantially to the scientific knowledge-base relevant to its respective subject area,

(2) Research, develop, and evaluate interventions and tools to improve outcomes in its focus area,

(3) Develop, implement, and evaluate a comprehensive plan for training critical stakeholders (e.g., consumers, family members, practitioners, service providers, researchers, and policymakers),

(4) Provide technical assistance, as appropriate, to critical stakeholders, (e.g., consumers, family members, practitioners, and service providers) to facilitate utilization of research findings in its respective area of research, and

(5) Develop a systematic plan for widespread dissemination of informational materials based on knowledge gained from the RRTC's research activities, and disseminate the materials to persons with disabilities, their representatives, service providers, and other interested parties.

In addition to the activities proposed by the applicant to carry out these purposes, each RRTC must—

• Conduct a state-of-the-science conference on its respective area of research in the third year of the grant cycle and publish a comprehensive report on the final outcomes of the conference in the fourth year of the grant cycle. This conference must include materials from experts internal and external to the RRTC;

• Coordinate on research projects of mutual interest with relevant NIDRR-funded projects as identified through consultation with the NIDRR project officer;

• Involve individuals with disabilities, including those from diverse racial and ethnic backgrounds, in planning and implementing its research, training, and dissemination activities, and in evaluating the RRTC;

• Demonstrate in its application how it will address, in whole or in part, the needs of individuals with disabilities from minority backgrounds; and

• Articulate goals, objectives, and expected outcomes for the proposed research activities. It is critical that proposals describe expected public benefits, especially benefits for individuals with disabilities, and propose projects that are designed to demonstrate outcomes that are consistent with the proposed goals. Applicants must include information describing how they will measure outcomes, including the indicators that will represent the end-result, the mechanisms that will be used to evaluate outcomes associated with specific problems or issues, and how the proposed activities will support new intervention approaches and strategies, including a discussion of measures of effectiveness.

Each RRTC must focus research on one of the following priorities:

Priority 1—Recovery and Recovery-Oriented Psychiatric Rehabilitation for Persons With Long Term Mental Illness

The purpose of the priority is to establish an RRTC on Recovery and Recovery-Oriented Psychiatric Rehabilitation for Persons with Long Term Mental Illness, in collaboration with the U.S. Department of Health and Human Services, Center for Mental Health Services, Substance Abuse and Mental Health Services Administration. The RRTC must be outcomes-focused, with the aim of enabling adults with serious mental illness to live, work, learn, and participate fully in their communities. Emphasis must be placed on the development and translation into practice of scientific knowledge that is culturally competent and consumer and family centered. To achieve these goals, the RRTC will conduct research, training, technical assistance, and dissemination activities on individual and environmental factors relevant to recovery and recovery-oriented psychiatric rehabilitation. Relevant topic areas may include, but are not limited to—

• The concept and dimensions of recovery as it relates to people with long-term mental illness;

• Factors that inhibit recovery (e.g., stigma and discrimination, fragmentation of the service delivery system, workforce shortages); or

• Factors that enhance recovery, including model interventions and supports (e.g., culturally competent treatment, supported employment, supported education, and alternative and innovative practices such as exercise, peer supports, and personal assistance services).

The reference for this topic can be found in the Plan, chapter 6, Independent Living and Community Integration.

Priority 2—Developing and Implementing Integrated Systems of Care for Child and Adolescent Mental Health

The purpose of the priority is to establish an RRTC on development and implementation strategies for effective and integrated systems of care for children and adolescents with serious emotional disorders and their families and caregivers, in collaboration with the U.S. Department of Health and Human Services, Center for Mental Health Services, Substance Abuse and Mental Health Services Administration. The RRTC must be outcome-focused, with the aim of developing and implementing effective and integrated systems of care that provide children and families access to the services and supports they need in order to live, learn, work, and thrive in their communities. To achieve this, the RRTC must conduct research, training, technical assistance, and dissemination activities on relevant areas such as, but not limited to—

• Strategies for maximizing collaboration in planning, accountability, financing, and service delivery within and across service sectors (e.g., mental health, juvenile justice, child welfare, education, substance abuse, primary health).

• Strategies for enhancing the child and adolescent mental health workforce so that it is more diverse and has the training, organizational support, and infrastructure necessary to implement family and community-based individualized service plans.

• Strategies for developing culturally competent policies, practices, and procedures, and incorporating them into the service delivery system.

• Performance measurement and quality improvement procedures designed to help systems of care make adjustments and improvements as needed to achieve their goals.

• Strategies for developing and implementing financial policies that are flexible and encourage home and community-based care provided in accordance with individualized service plans.

• Strategies for maximizing translation of evidence-based research into systems of care that permit families' self-determination; maximize partnerships between schools, families, and communities; and provide access to effective family and community-based interventions.

The reference for this topic can be found in the Plan, chapter 6, Independent Living and Community Integration.

Priority 3—Strengthening Family and Youth Participation in Child and Adolescent Mental Health Services

The purpose of the priority is to establish an RRTC on promoting effective family-centered and community-based practices and supports for children and adolescents with serious emotional disorders and their families and other caregivers, in collaboration with the U.S. Department of Health and Human Services, Center for Mental Services, Substance Abuse and Mental Health Services Administration. The work of the RRTC must be outcome-focused with the aim of increasing the extent to which families and youth have awareness of and access to supports and services that effectively promote their participation in family, school, work, and community life and roles. To achieve this, the RRTC will conduct research, training, technical assistance, and dissemination activities on relevant topic areas such as, but not limited to—

• Strategies for reducing stigma as a barrier to service delivery for children, families, and other caregivers.

• Strategies for integrating the concept of recovery (as discussed in the field of psychiatric rehabilitation) in service delivery for children and youth.

• Strategies for developing, delivering, and evaluating culturally competent youth and family-driven individualized service plans that are applicable across a variety of settings and service sectors.

• Strategies for maximizing the translation of evidence-based research into effective community-based practices.

• Strategies to support successful transitions across settings.

The reference for this topic can be found in the Plan, chapter 6, Independent Living and Community Integration.

Executive Order 12866

This notice of proposed priorities has been reviewed in accordance with Executive Order 12866. Under the terms of the order, we have assessed the potential costs and benefits of this regulatory action.

The potential costs associated with the notice of proposed priorities are those resulting from statutory requirements and those we have determined as necessary for administering this program effectively and efficiently.

In assessing the potential costs and benefits—both quantitative and qualitative—of this notice of proposed priorities, we have determined that the benefits of the proposed priorities justify the costs.

Summary of Potential Costs and Benefits

The potential costs associated with these proposed priorities are minimal while the benefits are significant. Grantees may anticipate incurring costs associated with completing the application, including staff time, copying, and mailing or delivery. The use of e-Application technology reduces copying and mailing costs significantly.

The benefits of the RRTC Program have been well established over the years. Similar projects have generated findings that advance the field and improve options for individuals with disabilities.

The benefit of these proposed priorities and project requirements will be the establishment of new RRTCs that generate, disseminate, and promote the use of new information to improve options and participation in the community for individuals with disabilities. Applicable Program Regulations: 34 CFR part 350.

Electronic Access to This Document

You may view this document, as well as all other Department of Education documents published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO access at www.gpoaccess.gov/nara/index.html.

(Catalog of Federal Domestic Assistance Number: 84.133B, Rehabilitation Research and Training Center Program)

Program Authority: 29 U.S.C. 762(g) and 764(b)(2).

Dated: March 22, 2004.
Troy R. Justesen,
Acting Deputy Assistant Secretary for Special Education and Rehabilitative Services.

[FR Doc. 04-6727 Filed 3-24-04; 8:45 am]

BILLING CODE 4000-01-P